POSTAL RATE COMMISSION

Sunshine Act; Notice of Meetings

name of agency: Postal Rate Commission.

time and date: 10 a.m., Tuesday, March 28, 2006.

place: Commission conference room, 901 New York Avenue, NW., Suite 200, Washington, DC 20268-0001.

status: Closed.

matters to be considered: Personnel issues.

FOR FURTHER INFORMATION CONTACT: Steven W. Williams, Secretary, 202-789-6842.

Dated: March 23, 2006.
Steven W. Williams,
Secretary.

[FR Doc. 06-2963 Filed 3-23-06; 11:06 am]

BILLING CODE 7710-FW-M